NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1989. This is a required notice.

FOR FURTHER INFORMATION CONTACT: Nadene G. Kennedy, Permit Office, Office of Polar Programs, Rm. 755, National Science Foundation, 4201 Wilson Boulevard, Arlington, VA 22230.

SUPPLEMENTARY INFORMATION: On May 27, 2004, the National Science Foundation published a notice in the Federal Register of a permit applications received. Permits were issued on June 29, 2004, to: Ron Naveen, Permit No. 2005-005; Rudolf Scheltema, Permit No. 2005-006.

Nadene G. Kennedy,
Permit Officer.

[FR Doc. 04-15258 Filed 7-2-04; 8:45 am]

BILLING CODE 7555-01-M